DEPARTMENT OF HOMELAND SECURITY

Federal Emergency Management Agency

[Docket ID FEMA-2007-0008]

National Advisory Council

AGENCY: Federal Emergency Management Agency, DHS.

ACTION: Committee Management; Notice of Federal Advisory Committee Meeting.

SUMMARY: The Federal Emergency Management Agency (FEMA) National Advisory Council (NAC) will meet in person on March 19, 2014 in Philadelphia, PA. The meeting will be open to the public.

DATES: The NAC will meet on Wednesday, March 19, 2014, from 8:30 a.m. to 5:00 p.m. Eastern Daylight Time (EDT). Please note that the meeting may close early if the NAC has completed its business.

ADDRESSES: The meeting will be held at the FEMA Region III Office located at 615 Chestnut Street, Philadelphia, PA 19106. All visitors to the FEMA Region III Office will have to register with FEMA to be admitted to the building. Photo identification is required to access the building. Please provide your name, telephone number, email address, title, and organization by close of business on March 12, 2014, to the contact person listed in FOR FURTHER INFORMATION CONTACT below.

For information on facilities or services for individuals with disabilities or to request special assistance at the meeting, contact the person listed in For Further Information Contact: below as soon as possible.

To facilitate public participation, members of the public are invited to provide written comments on the issues to be considered by the NAC (see “Agenda”). Written comments must be submitted and received by March 12, 2014, identified by Docket ID FEMA-2007-0008, and submitted by one of the following methods:

• Federal eRulemaking Portal: http://www.regulations.gov. Follow the instructions for submitting comments.

• Email: FEMA-NAC@fema.dhs.gov. Include the docket number in the subject line of the message.

• Fax: (540) 504-2331.

• Mail: Regulatory Affairs Division, Office of Chief Counsel, FEMA, 500 C Street SW., Room 8NE, Washington, DC 20472-3100.

Instructions: All submissions received must include the words “Federal Emergency Management Agency” and the docket number for this action. Comments received will be posted without alteration at http://www.regulations.gov, including any personal information provided.

Docket: For access to the docket to read comments received by the NAC, go to http://www.regulations.gov, and search for the Docket ID listed above.

A public comment period will be held during the meeting from 3:15 p.m. to 3:45 p.m. EDT, and speakers are requested to limit their comments to 3 minutes. Comments should be specifically related to and addressed to the NAC. Contact the individual listed below to register as a speaker by March 12, 2014. Please note that the public comment period may end before the time indicated, following the last call for comments.

FOR FURTHER INFORMATION CONTACT: Alexandra Woodruff, Alternate Designated Federal Officer, Office of the National Advisory Council, Federal Emergency Management Agency, 500 C Street SW., Washington, DC 20472-3100, telephone (202) 646-2700, fax (540) 504-2331, and email FEMA-NAC@fema.dhs.gov. The NAC Web site is: http://www.fema.gov/national-advisory-council.

SUPPLEMENTARY INFORMATION: Notice of this meeting is given under the Federal Advisory Committee Act, 5 U.S.C. App. (Pub. L. 92-463).

The NAC advises the FEMA Administrator on all aspects of emergency management. The NAC incorporates State, local, and tribal government, and private sector input in the development and revision of FEMA plans and strategies.

Agenda: The NAC will engage in open discussion with the FEMA Administrator. The NAC will receive report outs from its subcommittees on the following topics: Progress on issues related to Federal Insurance and Mitigation, Preparedness and Protection, and Response and Recovery. The NAC will review the information presented on each topic, deliberate on any recommendations presented in the subcommittees' reports, and, if appropriate, formulate recommendations for FEMA's consideration.

The NAC will also receive briefings from FEMA Executive Staff on the following topics:

• America's PrepareAthon;

• the FEMA Strategic Plan;

• Disability Inclusive Emergency Management;

• Implementation of the National Preparedness System;

• the Emergency Management Institute;

• the National Preparedness Grant Program; and

• FEMA's Climate Change Adaptation and Resilience Initiative.

The full agenda and any related committee documents will be posted on the NAC Web site at http://www.fema.gov/national-advisory-council.

Dated: February 26, 2014.
W. Craig Fugate,
Administrator, Federal Emergency Management Agency.

[FR Doc. 2014-04861 Filed 3-4-14; 8:45 am]

BILLING CODE 9111-48-P